DEPARTMENT OF COMMERCE

International Trade Administration

[A-570-088]

Certain Steel Racks and Parts Thereof From the People's Republic of China: Final Results of Antidumping Duty Administrative Review and Final Determination of No Shipments; 2019-2020

AGENCY: Enforcement and Compliance, International Trade Administration, Department of Commerce.

SUMMARY: The Department of Commerce (Commerce) has determined that certain exporters under review sold certain steel racks and parts thereof (steel racks) from the People's Republic of China (China) in the United States at prices below normal value (NV) during the period of review (POR) March 4, 2019, through August 31, 2020. Additionally, we determined that Hebei Minmetals Co., Ltd. (Hebei Minmetals) and Guangdong Wireking Housewares and Hardware Co., Ltd., (Guangdong Wireking) made no shipments of subject merchandise to the United States during the POR.

DATES: Applicable April 8, 2022.

FOR FURTHER INFORMATION CONTACT: Elizabeth Bremer or Jonathan Hill, AD/CVD Operations, Office IV, Enforcement and Compliance, International Trade Administration, U.S. Department of Commerce, 1401 Constitution Avenue NW, Washington, DC 20230; telephone: (202) 482-4987 and (202) 482-3518, respectively.

SUPPLEMENTARY INFORMATION:

Background

On October 6, 2021, Commerce published the Preliminary Results for this review in the Federal Register and invited interested parties to comment on those results.¹ In November 2021, Commerce received comments and rebuttal comments from interested parties regarding the Preliminary Results.² On January 12, 2022, Commerce held a public hearing regarding issues in this administrative review.³ On January 28, 2022, and again on March 1, 2022, Commerce extended the deadline for issuing the final results of this review.⁴ The current deadline for issuing the final results of this review is April 1, 2022. For further details regarding the events that occurred subsequent to issuing the Preliminary Results, see the Issues and Decision Memorandum.⁵ Commerce conducted this administrative review in accordance with section 751 of the Tariff Act of 1930, as amended (the Act).

¹ See Certain Steel Racks and Parts Thereof from the People's Republic of China: Preliminary Results of the Antidumping Duty Administrative Review and Preliminary Determination of No Shipments; 2019-2020, 86 FR 55575 (October 6, 2021) (Preliminary Results), and accompanying Preliminary Decision Memorandum (PDM).

² See Petitioner's Letter, “Case Brief,” dated November 5, 2021; see also Dongsheng's Letter, “Steel Racks from the People's Republic of China—Case Brief,” dated November 5, 2021; Nanjing Kingmore's Letter, “Certain Steel Racks and Parts Thereof from the People's Republic of China, Case No. A-570-088: Case Brief,” dated November 5, 2021; Jiangsu Nova's Letter, “Steel Racks and Parts Thereof from the People's Republic of China: Letter in Lieu of Brief,” dated November 5, 2021; Petitioner's Letter, “Rebuttal Brief,” dated November 12, 2021; Dongsheng's Letter, “Steel Racks from the People's Republic of China—Rebuttal Brief,” dated November 12, 2021; and Nanjing Kingmore's Letter, “Certain Steel Racks and Parts Thereof from the People's Republic of China, Case No. A-570-088: Nanjing Kingmore's Rebuttal Brief,” dated November 12, 2021.

³ See Commerce Letter, “Antidumping Duty Administrative Review of Steel Racks and Parts Thereof from the People's Republic of China: Hearing Schedule,” dated January 7, 2022.

⁴ See Memoranda, “Extension of Deadline for Final Results,” dated January 28, 2022; and “Extension of Deadline for Final Results,” dated March 1, 2022.

⁵ See Memorandum, “Issues and Decision Memorandum for the Final Results of the 2019-2020 Antidumping Duty Administrative Review of Certain Steel Racks and Parts Thereof from the People's Republic of China,” dated concurrently with, and hereby adopted by, this notice (Issues and Decision Memorandum).

Scope of the Order ⁶

⁶ See Certain Steel Racks and Parts Thereof from the People's Republic of China: Amended Final Affirmative Antidumping Duty Determination and Antidumping Duty Order; and Countervailing Duty Order, 84 FR 48584 (September 16, 2019) (Order).

The merchandise covered by this Order is steel racks and parts thereof, assembled, to any extent, or unassembled, including but not limited to, vertical components (e.g., uprights, posts, or columns), horizontal or diagonal components (e.g., arms or beams), braces, frames, locking devices (e.g., end plates and beam connectors), and accessories (including, but not limited to, rails, skid channels, skid rails, drum/coil beds, fork clearance bars, pallet supports, row spacers, and wall ties). For a full description of the scope, see the Issues and Decision Memorandum.

Analysis of Comments Received

All issues raised by interested parties in the case and rebuttal briefs are addressed in the Issues and Decision Memorandum. A list of the issues that parties raised, and to which we responded in the Issues and Decision Memorandum, is in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, we determined that Hebei Minmetals and Guangdong Wireking made no shipments of subject merchandise to the United States during the POR.⁷ As we have not received any arguments identifying information that undermines our preliminary finding, we made no changes to that determination for the final results of review.

⁷ See Preliminary Results PDM.

Changes Since the Preliminary Results

We corrected ministerial errors in our preliminary calculations of the manufacturing overhead ratio, freight-in costs, and certain net U.S. prices for Nanjing Kingmore Logistics Equipment Manufacturing Co., Ltd. (Nanjing Kingmore). We also corrected the draft liquidation instructions for Nanjing Kingmore. For a discussion of these corrections, see the Issues and Decision Memorandum.

Separate Rates

No parties commented on our preliminary separate rates determinations. We continue to find that Dongsheng and Nanjing Kingmore (i.e., the mandatory respondents), and the four companies listed in the “Final Results of Review” section below, are eligible for a separate rate. Additionally, we have continued to deny separate rate status to each of the companies listed in Appendix II.

Rate for Non-Examined Separate Rate Respondents

The statue and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review.

Section 735(c)(5)(A) of the Act states that the all-others rate should be calculated by averaging the weighted-average dumping margins determined for individually-examined respondents, excluding rates that are zero, de minimis, or based entirely on facts available. When the rates determined for individually examined respondents are all zero, de minimis, or based entirely on facts available, section 735(c)(5)(B) of the Act provides that Commerce may use “any reasonable method” to establish the all others rate.

The final weighted-average dumping margins that we calculated for the mandatory respondents Dongsheng and Nanjing Kingmore are not zero, de minimis, or based entirely on facts available. Therefore, we assigned a weighted-average dumping margin to the non-individually examined respondents to which we granted separate rate status equal to the weighted average of the weighted-average dumping margins that we calculated for Dongsheng and Nanjing Kingmore, consistent with the guidance in section 735(c)(5)(A) of the Act.⁸

⁸ See Memorandum, “First Administrative Review of the Antidumping Duty Order on Certain Steel Racks and Parts Thereof from China: Final Calculation of the Rate for Separate Rate Respondents,” dated concurrently with this notice.

The China-Wide Entity

Because no party requested a review of the China-wide entity in this segment of the proceeding, the entity is not under review, and the entity's rate (i.e., 144.50 percent) is not subject to change.⁹ Other than the companies for which we made a final no-shipment determination, Commerce considers all other companies for which a review was requested that did not demonstrate separate rate eligibility, to be part of the China entity.¹⁰

⁹ See Order, 84 FR 48584.

¹⁰ In this review, we have determined that the companies listed in Appendix II subject to the review are now part of the China-wide entity.

Final Results of Review

We are assigning the following weighted-average dumping margins to the firms listed below for the period March 4, 2019, through August 31, 2020:

Exporter | Weighted- average dumping margin (percent)
Nanjing Dongsheng Shelf Manufacturing Co., Ltd | 9.99
Nanjing Kingmore Logistics Equipment Manufacturing Co., Ltd | 18.87
Review-Specific Rate Applicable to the Following Companies:
Jiangsu Nova Intelligent Logistics Equipment Co., Ltd | 14.03
Nanjing Ironstone Storage Equipment Co., Ltd | 14.03
Suzhou (China) Sunshine Hardware & Equipment Imp. & Exp. Co., Ltd | 14.03
Xiamen Luckyroc Industry Co., Ltd | 14.03

Disclosure

Pursuant to 19 CFR 351.224(b), within five days of the publication of this notice in the Federal Register, we will disclose to the parties to this proceeding, the calculations that we performed for these final results of review.

Assessment Rates

Pursuant to section 751(a)(2)(C) of the Act and 19 CFR 351.212(b)(1), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Where the respondent's weighted-average dumping margin is zero or de minimis, or where an importer- (or customer-) specific ad valorem or per-unit rate is zero or de minimis, Commerce will instruct CBP to liquidate appropriate entries without regard to antidumping duties.¹¹ For U.S. entries that were not reported in the U.S. sales database submitted by an exporter individually examined during this review, but that entered under the case number of that exporter (i.e., at the individually-examined exporter's cash deposit rate), Commerce will instruct CBP to liquidate such entries at the China-wide entity rate (i.e., 144.50 percent).¹²

¹¹ See Antidumping Proceedings: Calculation of the Weighted-Average Dumping Margin and Assessment Rate in Certain Antidumping Proceedings: Final Modification, 77 FR 8101, 8103 (February 14, 2012).

¹² See Order, 84 FR 48584.

For any individually-examined respondent whose weighted-average dumping margin is above de minimis (i.e., 0.50 percent), we will calculate importer-specific or customer-specific assessment rates on the basis of the ratio of the total amount of antidumping duties calculated for each importer's examined sales and the total entered value of the sales, in accordance with 19 CFR 351.212(b)(1).¹³

¹³ Id.

For respondents not individually examined in this administrative review that qualified for a separate rate, the assessment rate will be equal to the weighted average of the dumping margins assigned to the mandatory respondents in the final results of this review.

For the respondents not eligible for a separate rate, which we considered to be part of the China-wide entity, we intend to instruct CBP to apply an ad valorem assessment rate of 144.50 percent (i.e., the China-wide entity rate) to all U.S. entries of subject merchandise during the POR that were exported by these companies.

Additionally, if Commerce determines that an exporter under review had no shipments of the subject merchandise, any suspended entries that entered under that exporter's case number will be liquidated at the China-wide entity rate.

Cash Deposit Requirements

The following cash deposit requirements will be effective for shipments of the subject merchandise entered, or withdrawn from warehouse, for consumption on or after the publication date of the final results of review, as provided for by section 751(a)(2)(C) of the Act: (1) For the exporters listed in the table above, the cash deposit rate will be the rate listed for the exporter in the table; (2) for previously investigated or reviewed China and non-China exporters not listed in the table above that have separate rates, the cash deposit rate will continue to be the existing exporter-specific rate published for the most recent period; (3) for all China exporters of subject merchandise that have not been found to be entitled to a separate rate, the cash deposit rate will be the rate previously established for the China-wide entity, which is 144.50 percent; and (4) for all non-China exporters of subject merchandise which have not received their own rate, the cash deposit rate will be the rate applicable to the China exporter that supplied that non-China exporter. These cash deposit requirements, when imposed, shall remain in effect until further notice.

Notification to Importers Regarding the Reimbursement of Duties

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act, and 19 CFR 351.213(h)(2) and 19 CFR 351.221(b)(5).

Dated: April 1, 2022.
Ryan Majerus,
Deputy Assistant Secretary for Policy and Negotiations.

Appendix I

List of Topics Discussed in the Issues and Decision Memorandum

I. Summary

II. Background

III. Scope of the Order

IV. Changes Since the Preliminary Results

V. Discussion of Issues

1. Whether Commerce Selected the Appropriate Surrogate Country

2. Whether Commerce Miscalculated the Manufacturing Overhead Ratio

3. Whether Nanjing Dongsheng Shelf Manufacturing Co., Ltd. (Dongsheng) is Affiliated with its U.S. Importer

4. Whether Commerce Miscalculated Direct Material and Packing Costs

5. Whether to Collapse Nanjing Kingmore Logistics Equipment Manufacturing Co., Ltd. (Nanjing Kingmore) with its Affiliate and Apply Total Adverse Facts Available

6. Whether Commerce Miscalculated Direct Material Costs and the Net Prices of Certain U.S. Sales

7. Whether Commerce Omitted a U.S. Customer from its Draft Liquidation Instructions

V. Recommendation

Appendix II

Companies Determined To Not Be Eligible for a Separate Rate

1. Ateel Display Industries (Xiamen) Co., Ltd

2. Changzhou Tianyue Storage Equipment Co., Ltd

3. CTC Universal (Zhangzhou) Industrial Co., Ltd

4. David Metal Craft Manufactory Ltd

5. Fujian Ever Glory Fixtures Co., Ltd

6. Fujian First Industry and Trade Co., Ltd

7. Huanghua Hualing Garden Products Co., Ltd

8. Huanghua Hualing Hardware Products Co., Ltd

9. Huanghua Xingyu Hardware Products Co., Ltd

10. Huanghua Xinxing Furniture Co., Ltd

11. Huangua Haixin Hardware Products Co., Ltd

12. Huangua Qingxin Hardware Products Co., Ltd

13. i-Lift Equipment Ltd

14. Jiangsu Baigeng Logistics Equipments Co., Ltd

15. Jiangsu Kingmore Storage Equipment Manufacturing Co., Ltd

16. Johnson (Suzhou) Metal Products Co., Ltd

17. Master Trust (Xiamen) Import and Export Co., Ltd

18. Ningbo Beilun Songyi Warehouse Equipment Manufacturing Co., Ltd

19. Ningbo Xinguang Rack Co., Ltd

20. Qingdao Rockstone Logistics Appliance Co., Ltd

21. Redman Corporation

22. Redman Import & Export Limited

23. Tianjin Master Logistics Equipment Co., Ltd

24. Waken Display System Co., Ltd

25. Xiamen Baihuide Manufacturing Co., Ltd

26. Xiamen Ever Glory Fixtures Co., Ltd

27. Xiamen Golden Trust Industry & Trade Co., Ltd

28. Xiamen Huiyi Beauty Furniture Co., Ltd

29. Xiamen Kingfull Imp and Exp Co., Ltd. (d.b.a) Xiamen Kingfull Displays Co., Ltd

30. Xiamen LianHong Industry and Trade Co., Ltd

31. Xiamen Luckyroc Storage Equipment Manufacture Co., Ltd

32. Xiamen Meitoushan Metal Products Co., Ltd

33. Xiamen Power Metal Display Co., Ltd

34. Xiamen XinHuiYuan Industrial & Trade Co., Ltd

35. Xiamen Yiree Display Fixtures Co., Ltd

36. Yuanda Storage Equipment Ltd

37. Zhangjiagang Better Display Co., Ltd

38. Zhangzhou Hongcheng Hardware & Plastic Industry Co., Ltd

[FR Doc. 2022-07501 Filed 4-7-22; 8:45 am]

BILLING CODE 3510-DS-P